DEPARTMENT OF HOMELAND SECURITY

Federal Emergency Management Agency

44 CFR Part 65

Changes in Flood Elevation Determinations

AGENCY: Federal Emergency Management Agency, Emergency Preparedness and Response Directorate, Department of Homeland Security.

ACTION: Final rule.

SUMMARY: Modified Base (1% annual-chance) Flood Elevations (BFEs) are finalized for the communities listed below. These modified elevations will be used to calculate flood insurance premium rates for new buildings and their contents.

EFFECTIVE DATES: The effective dates for these modified BFEs are indicated on the table below and revise the Flood Insurance Rate Maps ((FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
California:
Alameda (Case No. 02-09-542P) (FEMA Docket No. P7624) | City of Hayward | Feb. 21, 2003, Feb. 28, 2003; The Daily Review | The Hon. Roberta Cooper, Mayor, City of Hayward, 777 B Street, Hayward, CA 94541 | Feb. 10, 2003 | 065033
Illinois:
Will (Case No. 02-05-3078P) (FEMA Docket No. P7624) | Village of Bolingbrook | Apr. 10, 2003, Apr. 17, 2003; The Bolingbrook Sun | The Honorable Roger Claar, Mayor, Village of Bolingbrook, 375 West Briarcliff Road, Bolingbrook, IL 60440 | July 17, 2003 | 170812
Will (Case No. 03-05-0143P) (FEMA Docket No. P7626) | Village of Frankfort | Apr. 17, 2003, Apr. 24, 2003; The Daily Southtown | The Hon. Raymond Rossi, Mayor, Village of Frankfort, 432 West Nebraska Street, Frankfort, IL 60423 | Mar. 26, 2003 | 170701
Kane (Case No. 03-05-1473P) (FEMA Docket No. P7626) | City of Geneva | Apr. 23, 2003, Apr. 30, 2003; Kane County Chronicle | The Honorable Kevin R. Burns, Mayor, City of Geneva, 22 South First Street, Geneva, IL 60134 | July 30, 2003 | 170325
Cook (Case No. 02-05-2981P) (FEMA Docket No. P7622) | Village of Orland Park | Jan. 30, 2003, Feb. 6, 2003; The Orland Township Messenger | The Hon. Daniel McLaughlin, Mayor, Village of Orland Park, Village Hall, 14700 South Ravinia Avenue, Orland Park, IL 60462 | Jan. 15, 2003 | 170140
Will (Case No. 02-05-3980P) (FEMA Docket No. P7626) | Village of Plainfield | Apr. 23, 2003, Apr. 30, 2003; The Enterprise | The Honorable Richard Rock, Mayor, Village of Plainfield, 530 West Lockport Street, Suite 206, Plainfield, IL 60544 | July 30, 2003 | 170771
Kane (Case No. 03-05-1474P) (FEMA Docket No. P7626) | Village of South Elgin | May 19, 2003, May 26, 2003; The Courier News | Mr. James W. Hansen, II, Village President, Village of South Elgin, 10 North Water Street, South Elgin, IL 60177 | Apr. 17, 2003 | 170332
Cook (Case No. 02-05-1847P) (FEMA Docket No. P7622) | Village of Wheeling | Jan. 16, 2003, Jan. 23, 2003; The Wheeling Countryside | Mr. Gregory Klatecki, President, Village of Wheeling, 255 West Dundee Road, Wheeling, IL 60090-4726 | Dec. 27, 2002 | 170173
Will (Case No. 02-05-3980P) (FEMA Docket No. P7626) | Unincorporated Areas | Apr. 23, 2003, Apr. 30, 2003; The Enterprise | Mr. Joseph Mikan, Will County Executive, Will County Office Building, 302 North Chicago Street, Joliet, IL 60432 | July 30, 2003 | 170695
Indiana:
Lake (Case No. 02-05-3080P) (FEMA Docket No. P7626) | City of Crown Point | May 1, 2003, May 8, 2003; Crown Point Star | The Hon. James D. Metros, Mayor, City of Crown Point, 101 North East Street, Crown Point, IN 46307 | Apr. 7, 2003 | 180128
Lake (Case No. 03-05-0072P) (FEMA Docket No. P7626) | Unincorporated Areas | May 15, 2003, May 22, 2003; Crown Point Star | Mr. Wilbur Cox, Director, Lake County Planning Commission, 2293 North Main Street, Lake County Government Center, Crown Point, IN 46307 | Aug. 21, 2003 | 180126
Lake (Case No. 02-05-3647P) (FEMA Docket No. P7622) | Town of Schererville | Jan. 16, 2003, Jan. 23, 2003; The Times | Mr. Richard Krame, City Manager, Town of Schererville, 833 West Lincoln Highway, Suite B20W, Schererville, IN 46375 | Jan. 27, 2003 | 180142
Iowa:
Johnson (Case No. 02-07-356P) (FEMA Docket No. P7624) | City of Iowa City | Apr. 11, 2003, Apr. 18, 2003; Iowa City Press-Citizen | The Hon. Ernest W. Lehman, Mayor, City of Iowa City, 410 East Washington Street, Iowa City, IA 52240 | July 18, 2003 | 190171
Kansas:
Johnson (Case No. 03-07-494P) (FEMA Docket No. P7626) | City of Olathe | May 14, 2003, May 21, 2003; The Olathe News | The Hon. Michael Copeland, Mayor, City of Olathe, 100 West Santa Fe, Olathe, KS 66061 | Apr. 28, 2003 | 200173
Johnson (Case No. 03-07-477P) (FEMA Docket No. P7626) | City of Overland Park | May 22, 2003, May 29, 2003; The Sun Newspapers | The Honorable Ed Eilert, Mayor, City of Overland Park, 8500 Santa Fe Drive, Overland Park, KS 66212 | Apr. 23, 2003 | 200174
Johnson (Case No. 02-07-792P) (FEMA Docket No. P7626) | City of Overland Park | June 19, 2003, June 26, 2003; The Sun Newspapers | The Honorable Ed Eilert, Mayor, City of Overland Park, 8500 Santa Fe Drive, Overland Park, KS 66212 | Sept. 25, 2003 | 200174
Crawford (Case No. 02-07-785P) (FEMA Docket No. P7624) | City of Pittsburg | Feb. 21, 2003, Feb. 28, 2003; The Morning Sun | The Honorable Allen Gill, Mayor, City of Pittsburg, 201 West 4th Street, Pittsburg, KS 66762 | Feb. 10, 2003 | 200072
Johnson (Case No. 03-07-492P) (FEMA Docket No. P7626) | City of Prairie Village | June 3, 2003, June 10, 2003; The Legal Record | The Hon. Ronald L. Shaffer, Mayor, City of Prairie Village, 7700 Mission Road, Prairie Village, KS 66208-4230 | Apr. 11, 2003 | 200175
Sedgwick (Case No. 02-07-250P) (FEMA Docket No. P7622) | City of Wichita | Jan. 6, 2003, Jan. 13, 2003; The Wichita Eagle | The Honorable Bob Knight, Mayor, City of Wichita, City Hall, 455 North Main, Wichita, KS 67202 | Dec. 6, 2002 | 200328
Louisiana:
St. Charles Parish (Case No. 03-06-127P) (FEMA Docket No. P7626) | Unincorporated Areas | June 4, 2003, June 11, 2003; St. Charles Herald | Mr. Albert D. Laque, St. Charles Parish President, P.O. Box 302, Hahnville, LA 70057 | May 2, 2003 | 220160
Michigan:
Macomb (Case No. 02-05-1637P) (FEMA Docket No. P7624) | Township of Macomb | Mar. 20, 2003, Mar. 27, 2003; The Macomb Daily | Mr. John D. Brennan, Township Supervisor, 54111 Broughton Road, Macomb, MI 48042 | June 26, 2003 | 260445
Macomb (Case No. 02-05-1639P) (FEMA Docket No. P7626) | Township of Macomb | May 13, 2003, May 20, 2003; The Macomb Daily | Mr. John D. Brennan, Township Supervisor, 54111 Broughton Road, Macomb, MI 48042 | May 19, 2003 | 260445
Oakland (Case No. 03-05-1456P) (FEMA Docket No. P7626) | City of Novi | June 12, 2003, June 19, 2003; The Novi News | The Honorable Richard Clark, Mayor, City of Novi, 45175 West 10 Mile Road, Novi, MI 48375 | May 21, 2003 | 260175
Minnesota:
Ramsey (Case No. 02-05-0197P) (FEMA Docket No. P7622) | City of New Brighton | Jan. 15, 2003, Jan. 22, 2003; New Brighton-Mounds | The Honorable Steve Larson, Mayor, City of New Brighton, 803 Old Highway 8 N.W., View Bulletin New Brighton, MN 55112 | Apr. 23, 2003 | 270380
Missouri:
Platte (Case No. 03-07-479P) (FEMA Docket No. P7626) | City of Kansas City | May 23, 2003, May 30, 2003; Kansas City Star | The Honorable Kay Barnes, Mayor, City of Kansas City, City Hall, 29th Floor, 414 East 12th Street, Kansas City, MO 64106 | Aug. 29, 2003 | 290173
Platte (Case No. 03-07-480P) (FEMA Docket No. P7626) | City of Riverside | May 23, 2003, May 30, 2003; Kansas City Star | The Honorable Betty Burch, Mayor, City of Riverside, 2950 Northwest Vivion Road, Riverside, MO 64150 | Aug. 29, 2003 | 290296
St. Louis (Case No. 02-07-172P) (FEMA Docket No. P7622) | Unincorporated Areas | Jan. 16, 2003, Jan. 23, 2003; St. Louis Post Dispatch | Mr. Buzz Westfall, County Executive, St. Louis County, 41 South Central Avenue, St. Louis, MO 63105 | Apr. 24, 2003 | 290327
Nebraska:
York (Case No. 02-07-661P) (FEMA Docket No. P7626) | City of York | May 21, 2003, May 28, 2003; York News-Times | The Honorable Greg Adams, Mayor, City of York, P.O. Box 276, York, NE 68467 | Aug. 27, 2003 | 310237
New Mexico:
Bernalillo (Case No. 02-06-2143P) (FEMA Docket No. P7622) | City of Albuquerque | Jan. 24, 2003, Jan. 31, 2003; Albuquerque Journal | The Honorable Martin Chavez, Mayor, City of Albuquerque, P.O. Box 1293, Albuquerque, NM 87103 | Jan. 8, 2003 | 350002
Bernalillo (Case No. 03-06-439P) (FEMA Docket No. P7626) | City of Albuquerque | June 2, 2003, June 9, 2003; Albuquerque Journal | The Honorable Martin Chavez, Mayor, City of Albuquerque, P.O. Box 1293, Albuquerque, NM 87103 | May 14, 2003 | 350002
Bernalillo (Case No. 02-06-2143P) (FEMA Docket No. P7622) | Unincorporated Areas | Jan. 24, 2003, Jan. 31, 2003; Albuquerque Journal | Mr. Tim Cummins, Bernalillo County Commissioner, One Civic Plaza, N.W., Albuquerque, NM 87102 | Jan. 8, 2003 | 350001
North Carolina:
(Case No. 03-04-133P) (FEMA Docket No. P7626) | Town of Cary | Apr. 3, 2003, Apr. 10, 2003; The Cary News | Mr. William B. Coleman, Jr., Town Manager, Town of Cary, Town Hall Building A, 316 N. Academy Street, Cary, NC 27512-8005 | July 10, 2003 | 370238
Ohio:
Franklin (Case No. 02-05-3227P) (FEMA Docket No. P7622) | Unincorporated Areas | Jan. 9, 2003, Jan. 16, 2003; The Columbus Dispatch | Mr. Dewey R. Stokes, President, Franklin County, Board of Commissioners, 373 South High Street, 26th Floor, Columbus, OH 43215-6304 | Jan. 14, 2003 | 390167
Lorain (Case No. 02-05-1839P) (FEMA Docket No. P7622) | City of North Ridgeville | Feb. 19, 2003, Feb. 26, 2003; The Chronicle Telegram | The Honorable Deanna Hill, Mayor, City of North Ridgeville, 7307 Avon Belden Road, North Ridgeville, OH 44039 | May 28, 2003 | 390352
Warren (Case No. 02-05-3976P) (FEMA Docket No. P7626) | City of Springboro | Apr. 10, 2003, Apr. 17, 2003; The Star Press | The Hon. John Agenbroad, Mayor, City of Springboro, 320 West Central Avenue, Springboro, OH 45066 | July 17, 2003 | 390564
Montgomery (Case No. 02-05-3230P) (FEMA Docket No. P7624) | City of Vandalia | Mar. 5, 2003, Mar. 12, 2003; Dayton Daily News | The Honorable Bill Loy, Mayor, City of Vandalia, 333 James Bohanon Drive, Vandalia, OH 45377 | Feb. 21, 2003 | 390418
Oklahoma:
Tulsa (Case No. 01-06-839P) (FEMA Docket No. P7622) | City of Broken Arrow | Jan. 8, 2003, Jan. 15, 2003; Broken Arrow Ledger | The Honorable James Reynolds, Mayor, City of Broken Arrow, P.O. Box 610, Broken Arrow, OK 74013 | Apr. 16, 2003 | 400236
Oklahoma, Canadian Cleveland, McClain, Pottawatomie (Case No. 03-06-693P) (FEMA Docket No. P7624) | City of Oklahoma City | Mar. 20, 2003, Mar. 27, 2003; The Daily Oklahoman | The Hon. Kirk Humphreys, Mayor, City of Oklahoma City, 200 North Walker, 3rd Floor, Oklahoma City, OK 73102 | Feb. 25, 2003 | 405378
Oklahoma, Canadian, Cleveland, McClain, Pottawatomie (Case No. 03-06-696P) (FEMA Docket No. P7624) | City of Oklahoma City | Mar. 20, 2003, Mar. 27, 2003; The Daily Oklahoman | The Hon. Kirk Humphreys, Mayor, City of Oklahoma City, 200 North Walker, 3rd Floor, McClain, Oklahoma City, OK 73102 | Feb. 26, 2003 | 405378
Oklahoma, Canadian, Cleveland, McClain, Pottawatomie (Case No. 03-06-433P) (FEMA Docket No. P7622) | City of Oklahoma City | Feb. 20, 2003, Feb. 27, 2003; The Daily Oklahoman | The Hon. Kirk Humphreys, Mayor, City of Oklahoma City, 200 North Walker, 3rd Floor, Oklahoma City, OK 73102 | Jan. 9, 2003 | 405378
Oklahoma (Case No. 02-06-1547P) (FEMA Docket No. P7622) | City of Oklahoma City | Jan. 17, 2003, Jan. 24, 2003; The Daily Oklahoman | The Hon. Kirk Humphreys, Mayor, City of Oklahoma City, 200 North Walker, 3rd Floor, Oklahoma City, OK 73102 | Apr. 25, 2003 | 405378
Rogers (Case No. 03-06-012P) (FEMA Docket No. P7622) | Unincorporated Areas | Jan. 9, 2003, Jan. 16, 2003; Claremore Daily Progress | Mr. Gerry Payne, Chairman, Rogers County, Board of Commissioners, 219 South Missouri, Claremore, OK 74017 | Dec. 9, 2002 | 405379
Tulsa (Case No. 02-06-225P) (FEMA Docket No. P7626) | City of Tulsa | Apr. 23, 2003, Apr. 30, 2003; Tulsa World | The Honorable Bill LaFortune, Mayor, City of Tulsa, 200 Civic Center, Tulsa, OK 74103 | Apr. 14, 2003 | 405381
Wagoner (Case No. 03-06-012P) (FEMA Docket No. P7622) | Unincorporated Areas | Jan. 9, 2003, Jan. 16, 2003; The Wagoner Tribune | Mr. Allan Farley, Chairman, Wagoner County, Board of Commissioners, 307 East Cherokee Street, Wagoner, OK 74467 | Dec. 9, 2002 | 400215
Wagoner (Case No. 02-06-1643P) (FEMA Docket No. P7626) | Unincorporated Areas | Apr. 24, 2003, May 1, 2003; The Wagoner Tribune | Mr. Allan Farley, Chairman, Wagoner County, Board of Commissioners, 307 East Cherokee Street, Wagoner, OK 74467 | Apr. 4, 2003 | 400215
Texas:
Collin (Case No. 02-06-375P) (FEMA Docket No. P7622) | City of Allen | Jan. 10, 2003, Jan. 17, 2003; The Allen American | The Honorable Stephen Terrell, Mayor, City of Allen, 305 Century Parkway, Allen, TX 75013 | Apr. 18, 2003 | 480131
Collin (Case No. 03-06-436P) (FEMA Docket No. P7624) | City of Allen | Apr. 3, 2003, Apr. 10, 2003; The Allen American | The Honorable Stephen Terrell, Mayor, City of Allen, 305 Century Parkway, Allen, TX 75013 | Mar. 19, 2003 | 480131
Collin (Case No. 02-06-1097P) (FEMA Docket No. P7626) | City of Allen | May 1, 2003, May 8, 2003; The Allen American | The Honorable Stephen Terrell, Mayor, City of Allen, 305 Century Parkway, Allen, TX 75013 | Aug. 6, 2003 | 480131
Johnson (Case No. 02-06-2441P) (FEMA Docket No. P7622) | City of Burleson | Jan. 8, 2003, Jan. 15, 2003; The Burleson Star | The Honorable Byron Black, Mayor, City of Burleson, 141 West Renfro, Burleson, TX 76028 | Apr. 16, 2003 | 485459
Dallas (Case No. 02-06-2053P) (FEMA Docket No. P7626) | City of Carrollton | May 2, 2003, May 9, 2003; Northwest Morning News | The Honorable Mark Stokes, Mayor, City of Carrollton, 1945 E. Jackson Road, Carrollton, TX 75006 | Apr. 3, 2003 | 480167
Dallas (Case No. 02-06-1259P) (FEMA Docket No. P7624) | City of Dallas | Apr. 3, 2003, Apr. 10, 2003; Dallas Morning News | The Honorable Laura Miller, Mayor, City of Dallas, 1500 Marilla Street, Dallas, TX 75201 | Mar. 13, 2003 | 480171
Dallas (Case No. 03-06-447P) (FEMA Docket No. P7626) | City of Dallas | May 1, 2003, May 8, 2003; Dallas Morning News | The Honorable Laura Miller, Mayor, City of Dallas, 1500 Marilla Street, Dallas, TX 75201 | Apr. 3, 2003 | 480171
Hidalgo (Case No. 03-06-153P) (FEMA Docket No. P7626) | City of Edinburg | May 28, 2003, June 4, 2003; Edinburg Daily Review | The Honorable Richard Garcia, Mayor, City of Edinburg, P.O. Box 1079, Edinburg, TX 78450-1079 | Sept. 3, 2003 | 480338
El Paso (Case No. 03-06-107P) FEMA Docket No. P7626) | City of El Paso | May 21, 2003, May 28, 2003; El Paso Times | The Hon. Raymond Caballero, Mayor, City of El Paso, Two Civic Center Plaza, El Paso, TX 79901 | May 2, 2003 | 480214
Tarrant (Case No. 03-06-411P) (FEMA Docket No. P7626) | City of Euless | Apr. 17, 2003, Apr. 24, 2003; The Star Telegram | The Honorable May Saleh, Mayor, City of Euless, 201 North Ector Drive, Euless, TX 76039-3595 | Apr. 2, 2003 | 480593
Dallas (Case No. 02-06-2308P) (FEMA Docket No. P7624) | City of Farmers Branch | Feb. 21, 2003, Feb. 28, 2003; Northwest Morning News | The Honorable Bob Phelps, Mayor, City of Farmers Branch, P.O. Box 819010, Farmers Branch, TX 75234 | Feb. 7, 2003 | 480174
Fort Bend (Case No. 02-06-376P) (FEMA Docket No. P7622) | Unincorporated Areas | Jan. 22, 2003, Jan. 29, 2003; Fort Bend Star | The Hon. James Adolphus, Judge, Fort Bend County, 301 Jackson Street, Suite 719, Richmond, TX 77469 | Dec. 31, 2002 | 480228
Tarrant (Case No. 02-06-2441P) (FEMA Docket No. P7622) | City of Fort Worth | Jan. 8, 2003, Jan. 15, 2003; The Star Telegram | The Honorable Kenneth Barr, Mayor, City of Fort Worth, 1000 Throckmorton Street, Fort Worth, TX 76102 | Jan. 13, 2003 | 480596
Denton (Case No. 03-06-040P) (FEMA Docket No. P7622) | City of Fort Worth | Jan. 24, 2003, Jan. 31, 2003; The Star Telegram | The Honorable Kenneth Barr, Mayor, City of Fort Worth, 1000 Throckmorton Street, Fort Worth, TX 76102 | May 2, 2003 | 480596
Tarrant (Case No. 02-06-1714P) (FEMA Docket No. P7626) | City of Fort Worth | Apr. 17, 2003, Apr, 24, 2003; The Star Telegram | The Honorable Kenneth Barr, Mayor, City of Fort Worth, 1000 Throckmorton Street, Fort Worth, TX 76102 | July 24, 2003 | 480596
Collin (Case No. 03-06-043P) (FEMA Docket No. P7626) | City of Frisco | June 12, 2003, June 19, 2003; Frisco Enterprise | The Honorable Mike Simpson, Mayor, City of Frisco, P.O. Box 1100, Frisco, TX 75034 | May 23, 2003 | 480134
Dallas (Case No. 02-06-1259P) (FEMA Docket No. P7624) | City of Garland | Apr. 3, 2003, Apr, 10, 2003; Garland Morning News | The Honorable Bob Day, Mayor, City of Garland, P.O. Box 469003, Garland, TX 75046-9002 | Mar. 13, 2003 | 485471
Tarrant (Case No. 02-06-1719P) (FEMA Docket No. P7626) | City of Grapevine | Apr. 17, 2003, Apr, 24, 2003; The Grapevine Sun | The Hon. William D. Tate, Mayor, City of Grapevine, 200 S. Main Street, P.O. Box 95104, Grapevine, TX 76051 | Apr. 3, 2003 | 480598
Harris (Case No. 01-06-2046P) (FEMA Docket No. P7622) | Unincorporated Areas | Jan. 10, 2003, Jan. 17, 2003; Houston Chronicle | The Honorable Robert Eckels, Judge, Harris County, 1001 Preston Street, Suite 911, Houston, TX 77002 | Apr. 18, 2003 | 480287
Harris (Case No. 02-06-584P) (FEMA Docket No. P7626) | Unincorporated Areas | May 14, 2003, May 21, 2003; The Houston chronicle | The Honorable Robert Eckels, Harris County Judge, 1001 Preston, Suite 911, Houston, TX 77002 | Apr. 18, 2003 | 480287
Hidalgo (Case No. 03-06-153P) (FEMA Docket No. P7626) | Unincorporated Areas | May 28, 2003, June 4, 2003; Edinburg Daily Review | The Honorable Raman Garcia, Judge, Hidalgo County, P.O. Box 1356, Edinburg, TX 78540-1356 | Sept. 3, 2003 | 480334
Dallas (Case No. 02-06-2421P) (FEMA Docket No. P7622) | Town of Highland Park | Jan. 22, 2003, Jan. 29, 2003; Park Cities Morning News | The Hon. William D. White, Jr., Mayor, Town of Highland Park, 4700 Drexel Drive, Highland Park, TX 75205 | Jan. 3, 2003 | 480178
Dallas (Case No. 03-06-1009P) (FEMA Docket No. P7626) | Town of Highland Park | May 21, 2003, May 28, 2003; Park Cities Morning News | The Hon. William D. White, Jr., Mayor, Town of Highland Park, 4700 Drexel Drive, Highland Park, TX 75205 | Apr. 30, 2003 | 480178
Harris (Case No. 02-06-584P) (FEMA Docket No. P7626) | City of Houston | May 14, 2003, May 21, 2003; The Houston Chronicle | The Honorable Lee P. Brown, Mayor, City of Houston, P.O. Box 1562, Houston, TX 77251 | Apr. 18, 2003 | 480296
Tarrant (Case No. 02-06-2049P) (FEMA Docket No. P7624) | City of Hurst | Feb. 21, 2003, Feb. 28, 2003; The Star Telegram | The Hon. William D. Souder, Mayor, City of Hurst, 1505 Precinct Line Road, Hurst, TX 76054 | Jan. 31, 2003 | 480601
Tarrant (Case No. 02-06-236P) (FEMA Docket No. P7626) | City of Hurst | Apr. 22, 2003, Apr. 29, 2003; The Star Telegram | The Hon. William D. Souder, Mayor, City of Hurst, 1505 Precinct Line Road, Hurst, TX 76054 | July 29, 2003 | 480601
Hays (Case No. 02-06-2442P) (FEMA Docket No. P7626) | City of Kyle | Apr. 23, 2003, Apr. 30, 2003; The Kyle Eagle | The Hon. James L. Adkins, Mayor, City of Kyle, 102 Briarwood Circle, Kyle, TX 78640 | Apr. 2, 2003 | 481108
Dallas (Case No. 02-06-2623P) (FEMA Docket No. P7626) | City of Lancaster | June 12, 2003, June 19, 2003; Lancaster Today | The Honorable Joe Tillotson, Mayor, City of Lancaster, P.O. Box 940, Lancaster, TX 75146 | Sept. 18, 2003 | 480182
Williamson (Case No. 02-06-938P) (FEMA Docket No. P7624) | City of Leander | Apr. 16, 2003, Apr. 23, 2003; Hill Country News | The Honorable Larry Barnett, Mayor, City of Leander, P.O. Box 319, Leander, TX 78646 | Mar. 13, 2003 | 481536
Liberty (Case No. 01-06-1554P) (FEMA Docket No. P7626) | City of Liberty | May 21, 2003, May 28, 2003; The Vindicator | The Hon. Bruce E. Halstead, Mayor, City of Liberty, 1829 Sam Houston, Liberty, TX 77575 | Aug. 27, 2003 | 480441
Liberty (Case No. 01-06-1554P) (FEMA Docket No. P7626) | Unincorporated Areas | May 21, 2003, May 28, 2003; The Vindicator | The Honorable Lloyd Kirkham, Judge, Liberty County, 1923 Sam Houston, Suite 201, Liberty, TX 77575 | Aug. 27, 2003 | 480438
Gregg & Harrison (Case No. 02-06-1841P) (FEMA Docket No. P7626) | City of Longview | May 15, 2003, May 22, 2003; Longview News Journal | The Honorable Earl Roberts, Mayor, City of Longview, P.O. Box 1952, Longview, TX 75606 | Aug. 21, 2003 | 480264
Dallas (Case No. 02-06-1259P) (FEMA Docket No. P7624) | City of Mesquite | Apr. 3, 2003, Apr. 10, 2003; Mesquite Morning News | The Honorable Mike Anderson, Mayor, City of Mesquite, P.O. Box 850137, Mesquite, TX 75185 | Mar. 13, 2003 | 485490
Williamson (Case No. 03-06-679P) (FEMA Docket No. P7626) | City of Round Rock | Apr. 17, 2003, Apr. 24, 2003; Round Rock Leader | The Honorable Nyle Maxwell, Mayor, City of Round Rock, 221 East Main Street, Round Rock, TX 78664 | Apr. 2, 2003 | 481048
Bexar (Case No. 02-06-2307P) (FEMA Docket No. P7622) | City of San Antonio | Jan. 30, 2003, Feb. 6, 2003; San Antonio Express News | The Honorable Ed Garza, Mayor, City of San Antonio, P.O. Box 839966, San Antonio, TX 78283 | May 8, 2003 | 480045
Bexar, Comal & Guadalupe (Case No. 02-06-432P) (FEMA Docket No. P7624) | City of Schertz | Feb. 13, 2003, Feb. 20, 2003; The Herald | The Honorable Hal Baldwin, Mayor, City of Schertz, P.O. Box Drawer 1, Schertz, TX 78154 | Feb. 3, 2003 | 480269
Bexar, Comal & Guadalupe (Case No. 02-06-1684P) (FEMA Docket No. P7624) | City of Schertz | Apr. 17, 2003, Apr. 24, 2003; The Herald | The Honorable Hal Baldwin, Mayor, City of Schertz, P.O. Box Drawer 1, Schertz, TX 78154 | Mar. 21, 2003 | 480269
Bexar (Case No. 02-06-1684P) (FEMA Docket No. P7624) | City of Selma | Apr. 17, 2003, Apr. 24, 2003; The Herald | The Honorable Jim Parma, Mayor, City of Selma, 9375 Corporate Drive, Selma, TX 78154 | Mar. 21, 2003 | 480046
Bexar (Case No. 02-06-1838P) (FEMA Docket No. P7622) | City of Selma | Jan. 23, 2003, Jan. 30, 2003; The Herald | The Honorable James Parma, Mayor, City of Selma, 9375 Corporate Drive, Selma, TX 78154 | May 1, 2003 | 480046
Tarrant (Case No. 02-06-2441P) (FEMA Docket No P7622) | Unincorporated Areas | Jan. 8, 2003, Jan. 15, 2003; The Star Telegram | The Hon. Tom Vandergriff, Tarrant County Judge, 100 East Weatherford, Fort Worth, TX 76196 | Jan. 13, 2003 | 480582
Tarrant (Case No. 03-06-152P) (FEMA Docket No. P7626) | Unincorporated Areas | May 21, 2003, May 28, 2003; The Star Telegram | The Hon. Tom Vandergriff, Tarrant County Judge, 100 East Weatherford Street, Fort Worth, TX 76196 | Aug. 27, 2003 | 480582
Bexar (Case No. 02-06-1838P) (FEMA Docket No. P7622) | City of Universal City | Jan. 23, 2003, Jan. 30, 2003; The Herald | The Hon. Wesley D. Becken, Mayor, City of Universal City, P.O. Box 3008, Universal City, TX 78148 | May 1, 2003 | 480049
Williamson (Case No. 02-06-938P) (FEMA Docket No. P7624) | Unincorporated Areas | Apr. 16, 2003, Apr. 23, 2003; Williamson County Sun | The Hon. John C. Doerfler, Judge, Williamson County, 710 Main Street, Georgetown, TX 78626 | Mar. 13, 2003 | 481079
Wisconsin: | Richland (Case No. 02-05-3964P) (FEMA Docket No. P7626) | City of Richland Center | June 19, 2003, June 26, 2003; The Richland Observer | The Honorable Rita Kidd, Mayor, City of Richland Center, 450 South Main Street, Richland Center, WI 53581 | May 29, 2003 | 555576

(Catalog of Federal Domestic Assistance No. 83.100, “Flood Insurance.”)
Dated: November 4, 2003.
Anthony S. Lowe,
Administrator, Federal Insurance and Mitigation Administration.

[FR Doc. 03-28638 Filed 11-14-03; 8:45 am]

BILLING CODE 6718-04-P